DEPARTMENT OF ENERGY

Federal Energy Regulatory Commission

[Project No. 2211-008]

Duke Energy Indiana, Inc.; Duke Energy Indiana, LLC; Notice of Application for Transfer of License and Soliciting Comments, Motions To Intervene, and Protests

On September 2, 2015, Duke Energy Indiana, Inc. (transferor) filed an application for transfer of license of the Markland Hydroelectric Project, FERC No. 2211 to Duke Energy Indiana, LLC (transferee). The project is located on the Ohio River in Switzerland County, Indiana.

Duke Energy Indiana, Inc. is an indirect subsidiary of Duke Energy Corporation. To modernize and simplify Duke Energy Corporation's structure, Duke Energy Indiana, Inc. intends to convert to an LLC, (Duke Energy Indiana, LLC). Duke Energy Indiana, Inc. seeks Commission approval to transfer the license for the Markland Hydroelectric Project to Duke Energy Indiana, LLC in association with the conversion, effective on the date Duke Energy Indiana, LLC submits certified copies of its articles of conversion, plan of conversion, and limited liability company operating agreement to the Commission.

Applicant Contact: For Applicant: Mr. Garry S. Rice, Deputy General Counsel, Duke Energy Corporation, 550 South Tryon Street, Mail Code DEC45A, Charlotte, NC 28202, Phone: 704-382-8111, Email: Garry.Rice@duke-energy.com and John A. Whittaker, IV, Winston & Strawn LLP, 1700 K Street NW., Washington, DC 20006-3817, Phone: 202-282-5766, Email: jwhittaker@wiston.com.

FERC Contact: Patricia W. Gillis, (202) 502-8735.

Deadline for filing comments, motions to intervene, and protests: 30 days from the date that the Commission issues this notice. The Commission strongly encourages electronic filing. Please file motions to intervene, comments, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at

FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2211-008.

Dated: September 11, 2015.
Kimberly D. Bose,
Secretary.

[FR Doc. 2015-23424 Filed 9-17-15; 8:45 am]

BILLING CODE 6717-01-P